DEPARTMENT OF TRANSPORTATION

Federal Highway Administration

Environmental Impact Statement: Cook and DuPage Counties, Illinois

AGENCY: Federal Highway Administration (FHWA), DOT.

ACTION: Notice of Intent.

SUMMARY: The FHWA is issuing this notice to advise the public that a Tier One Environmental Impact Statement will be prepared for the Elgin O'Hare-West Bypass study in Cook and DuPage Counties, Illinois.

FOR FURTHER INFORMATION CONTACT: Norman R. Stoner, P.E., Division Administrator, Federal Highway Administration, 3250 Executive Park Drive, Springfield, Illinois 62703, Phone: (217) 492-4600. Diane M. O'Keefe, P.E., Deputy Director of Highways, Region One Engineer, Illinois Department of Transportation, 201 West Center Court, Schaumburg, Illinois 60196, Phone: (847) 705-4000.

SUPPLEMENTARY INFORMATION: The FHWA, in cooperation with the Illinois Department of Transportation (IDOT), will prepare a Tier One Environmental Impact Statement (EIS) for the Elgin O'Hare-West Bypass study. The study area for the EIS is generally bounded by I-90, I-294, and I-290. The Tier One EIS will complete a broad analysis of transportation system alternative(s) in the study area and evaluate the environmental impacts at a planning level of detail using a Geographic Information System (GIS).

The primary environmental resources that may be affected are: Residential, commercial, and industrial properties; streams and floodplains; wetlands; and open space. This project is being developed using the Illinois Department of Transportation's Context Sensitive Solutions policy. Alternatives to be evaluated will include (1) taking no action; (2) transit improvements; (3) improvements to local roads; (4) a complete system of improvements including limited access highways on existing and new location, transit, transportation system management strategies, and bicycle and pedestrian facilities.

As part of the EIS process, a scoping meeting for obtaining input from Resource Agencies on level of detail and methodologies to be addressed in the Environmental Impact Statement will be held in December 2007. Additional coordination will occur with the Resource Agencies to identify a date and location for the scoping meeting.

A Stakeholder Involvement Plan (SIP), which will meet the SAFETEA-LU Coordination Plan requirements, will be developed to ensure that a full range of issues related to this proposed project are identified and addressed. The SIP provides meaningful opportunities for all stakeholders to participate in defining transportation issues and solutions for the study area. A project Web site has been established (http://www.elginohare-westbypass.org) as one element of the project public involvement program.

Comments or questions concerning this proposed action and the Tier One EIS are invited from all interested parties and should be directed to the FHWA at the address provided above. A public hearing will be held after the Tier One draft EIS is published and made available for public and agency review. Public notice will be given of the time and place of public meetings and hearings.

The Tier One EIS will conclude with a Record of Decision selecting a preferred transportation system alternative(s). Following the Tier One EIS, projects with independent utility may be advanced to Tier Two NEPA documents that will focus on detailed environmental analyses.

(Catalog of Federal Domestic Assistance Program Number 20.205, Highway Research, Planning and Construction. The regulations implementing Executive Order 12372 regarding intergovernmental consultation on Federal programs and activities apply to this program)

Issued on: October 29, 2007.
Norman R. Stoner,
P.E., Division Administrator, Springfield, Illinois.

[FR Doc. 07-5450 Filed 11-1-07; 8:45 am]

BILLING CODE 4910-22-M